DEPARTMENT OF THE INTERIOR

Bureau of Indian Affairs

Notice of Availability of Final Environmental Impact Statement for the Proposed Coyote Business Park, Umatilla County, OR

AGENCY: Bureau of Indian Affairs, Interior.

ACTION: Notice.

SUMMARY: This notice advises the public that the Bureau of Indian Affairs (BIA), with the cooperation of the Bonneville Power Administration (BPA), and the Confederated Tribes of the Umatilla Indian Reservation (CTUIR) intends to file a Final Environmental Impact Statement (FEIS) with the U.S. Environmental Protection Agency for the proposed lease of up to 142 acres of land held in trust by the United States for the benefit of the CTUIR in Umatilla County, Oregon, and that the FEIS is now available for public review. The purpose of the proposed project, the Coyote Business Park, is to help meet economic development needs on the Umatilla Indian Reservation.

DATES: The Record of Decision on the proposed action will be issued on or after January 3, 2007. Any comments on the FEIS must arrive by January 2, 2007.

ADDRESSES: You may hand carry written comments to the Umatilla Agency at 46807 B Street, Mission, Oregon, or mail them to Jerry L. Lauer, Acting Superintendent, Bureau of Indian Affairs, Umatilla Agency, P.O. Box 520, Pendleton, Oregon 97801.

To obtain a copy of the FEIS, please contact Jerry L. Lauer at the mailing address above or his telephone number below. Copies of the FEIS are available for public review at the Umatilla Agency and at the Pendleton Public Library, 500 SW. Dorian, Pendleton, Oregon. Copies of the FEIS have also been sent to agencies and individuals who participated in the scoping process and to all others who have previously requested copies of the document.

FOR FURTHER INFORMATION CONTACT: Jerry Lauer, (541) 278-3786.

SUPPLEMENTARY INFORMATION: The FEIS, prepared with the cooperation of BPA and CTUIR, analyzes the impacts of leasing trust land for the purposes of constructing and managing a light industrial and commercial business park known as the Coyote Business Park. The proposed Coyote Business Park would be located on 142 contiguous acres of a 520 acre site south of Interstate 84 at Exit 216 and west of South Market Road, approximately 7 miles east of Pendleton, Oregon, on the Umatilla Indian Reservation.

The FEIS includes an analysis of the No Action alternative, the Proposed Action (Alternative E) and three additional action alternatives (Alternatives B, C, and D). The Proposed Action is the Preferred Alternative. The action alternatives differ primarily in the size of the proposed business park (21-142 acres), whether domestic water would be provided through the drilling of a new well or extension of an existing community water system, and whether sanitary sewer service would be provided by installation of septic tanks and drain fields or connection to an existing municipal sewer system.

The Proposed Action is to construct infrastructure for the Coyote Business Park, including providing domestic water, sanitary sewer, storm water drainage, roads and utilities to lots that would be leased for light industrial and/or commercial businesses. Replacement of power support structures on the high-voltage Bonneville Power Administration transmission line that crosses the site would also occur.

Water would be provided from the Mission Water System. Wastewater would be handled by connection to the Mission Wastewater Collection System, which is treated through a cooperative agreement by the City of Pendleton. Storm water drainage would be retained on-site. Access would be provided off South Market Road, which would be improved to an industrial standard and provided with a dedicated right hand turn lane into the site. Commercial utilities would be provided through extensions of existing service, which is located either adjacent to the site or within one quarter mile.

Potential impacts to Patawa Creek as well as nearby residences have been considered in the design of the Coyote Business Park. Mitigation measures include a storm water drainage collection system that isolates storm water from Patawa Creek; creation of a riparian management zone along Patawa Creek to establish native vegetation and reduce sedimentation and erosion; incorporation of best management practices to reduce impacts to groundwater; and incorporation of landscaping and night lighting design to reduce visual impact and night light pollution.

Individual business owners would lease lots from the CTUIR and construct and operate light industrial and/or commercial facilities. The CTUIR could also construct the business facilities and lease them to private operators. Anticipated light industrial operations include warehouses or distribution facilities and assembly of previously manufactured components.

Public participation has occurred throughout the development of the EIS. The Notice of Intent was filed in the Federal Register on January 9, 2002 (66 FR 1191). A public scoping meeting was held in Pendleton, Oregon, on January 23, 2003, to solicit comments and ideas. On November 6, 2003, an open house was held in Pendleton, Oregon, to update the public on the EIS process for the proposed project. A Notice of Availability for the Draft Environmental Impact Statement (DEIS) was filed in the Federal Register on December 16, 2005 (70 FR 74844). Public hearings on the DEIS were held in Pendleton, Oregon, on January 19 and January 30, 2006. The FEIS addresses issues and concerns raised during the public scoping period and contains responses to letters and oral testimony received during the public comment period on the DEIS.

Public Comment Availability

Comments, including names and home addresses of respondents, will be available for public review at the BIA address shown above, during regular business hours, 7:30 a.m. to 4 p.m., Monday through Friday, except holidays. Individual respondents may request confidentiality. If you wish to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality regulations (40 CFR parts 1500 through 1508), implementing the procedural requirements of the National Environmental Policy Act of 1969, as amended (42 U.S.C. 4321 et seq.), the Department of the Interior Manual (516 DM 1-6), and is in the exercise of authority delegated to the Assistant Secretary—Indian Affairs by 209 DM 8.

Dated: November 3, 2006.
Michael D. Olsen,
Principal Deputy Assistant Secretary—Indian Affairs.

[FR Doc. E6-19848 Filed 11-22-06; 8:45 am]

BILLING CODE 4310-W7-P